ENVIRONMENTAL PROTECTION AGENCY

[FRL-6530-3]

Agency Information Collection Activities: Submission for OMB Review; Comment Request, NSPS Performance for Equipment Leaks of VOC from Onshore Natural Gas Processing Plants, and NSPS Natural Gas Processing: SO2 Emissions

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS, 40 CFR part 60, subpart KKK, Standards of Performance for Equipment Leaks of VOC from Onshore Natural Gas Processing Plants, and NSPS, 40 CFR part 60, subpart LLL, Standards of Performance for Natural Gas Processing: SO2 Emissions. The OMB Control Number is 2060-0120 and expiration date 03/31/00. The ICR describes the nature of the information collection and its expected burden and cost; where appropriate, it includes the actual data collection instrument.

DATES: Comments must be submitted on or before February 28, 2000.

FOR FURTHER INFORMATION CONTACT: For a copy of the ICR contact Sandy Farmer at EPA by phone at (202) 260-2740, by E-Mail at Farmer.Sandy@epamail.epa.gov or download off the Internet at http://www.epa.gov/icr and refer to EPA ICR No. 1086.06. For technical questions about the ICR, contact Dan Chadwick at (202) 564-7054.

SUPPLEMENTARY INFORMATION:

Title: NSPS Subpart KKK Standards of Performance for Equipment Leaks of VOC from Onshore Natural Gas Processing Plants, and NSPS Subpart LLL Standards of Performance for Natural Gas Processing: SO2 Emissions. (OMB Control No. 2060-0120; EPA ICR No. 1086.06) expiring 03/31/00. This is a request for extension of a currently approved collection.

Abstract: Owners/operators of Onshore Natural Gas Processing Plants subject to subparts KKK and LLL must notify EPA of construction, modifications, startups, shutdowns, malfunctions, and initial performance tests dates and results. Owners/operators subject to these standards must make one-time-only reports of notification of the date of construction or reconstruction and notification of the anticipated and actual startup dates. Owner/operators subject to these standards must also report on the notification of any physical or operational change that may cause emission increases and are also required to maintain records of the occurrence and duration of any startup, shutdown or malfunction in the operation of an affected facility, or any period in which the monitoring system is inoperable.

Facilities subject to subpart KKK must provide information on leaks, including the date when the leak was detected, the repair method used and other pertinent details. Facilities subject to subpart LLL must submit information on excess SO2 emissions. Large facilities subject to subpart LLL must install, calibrate, maintain and operate SO2 Continuous Emission Monitors. These facilities would also have to submit the results of initial performance tests. Owners/operators of all affected facilities must report semiannually on the operating information contained in the records. This information is collected and used to ensure that the standards for VOC and SO2 emissions are being met.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 08/16/99 (64 FR 44518) and no comments were received.

Burden Statement: The annual public reporting and recordkeeping burden for this collection of information is estimated to average 102 hours per response. Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/operators of natural gas processing plants (KKK) and Owners/operators for Onshore Natural Gas Processing (LLL).

Estimated Number of Respondents: 558.

Frequency of Response: Semiannually or as needed.

Estimated Total Annual Hour Burden: 114,036 hours.

Estimated Total Annualized Capital, OM Cost Burden: $74,100.

Send comments on the Agency's need for this information, the accuracy of the provided burden estimates, and any suggested methods for minimizing respondent burden, including through the use of automated collection techniques to the following addresses. Please refer to EPA ICR No. 1086.06 and OMB Control No. 2060-0120 in any correspondence.

Ms. Sandy Farmer, U.S. Environmental Protection Agency, Office of Environmental Information, Collection Strategies Division (2822), 1200 Pennsylvania, NW, Washington, DC 20460;

and

Office of Information and Regulatory Affairs, Office of Management and Budget, Attention: Desk Officer for EPA, 725 17th Street, NW, Washington, DC 20503.

Dated: January 20, 2000.
Oscar Morales,
Director, Collection Strategies Division.

[FR Doc. 00-1963 Filed 1-26-00; 8:45 am]

BILLING CODE 6560-50-P